GENERAL SERVICES ADMINISTRATION

[Notice-MA-2022-07; Docket No. 2022-0002, Sequence No. 13]

Midyear Adjustment to the Calendar Year (CY) 2022 Privately Owned Vehicle (POV) Mileage Reimbursement Rates and Standard Mileage Rate for Moving Purposes (Relocation Allowances)

AGENCY: Office of Government-wide Policy (OGP), General Services Administration (GSA).

ACTION: Notice.

SUMMARY: GSA is prescribing a midyear adjustment to the calendar year 2022 official temporary duty mileage reimbursement rates for privately owned automobiles (POA), airplanes, and motorcycles as required by statute. GSA will also adjust the POV mileage rate for moving purposes and the POA rate when a Government-furnished automobile is authorized.

DATES: Applicability date: This notice applies to travel and relocation performed on or after July 1, 2022 through December 31, 2022.

FOR FURTHER INFORMATION CONTACT: For clarification of content, please contact Ms. Cheryl D. McClain-Barnes, Program Analyst, Office of Government-wide Policy, Office of Asset and Transportation Management, at 202-208-4334, or by email at travelpolicy@gsa.gov. Please cite Notice of FTR Bulletin 22-06.

SUPPLEMENTARY INFORMATION: GSA is required by statute to set the mileage reimbursement rate for privately owned automobiles (POA) as the single standard mileage rate established by the IRS. On June 9, 2022, the IRS announced a midyear mileage rate adjustment to reflect the rising cost of fuel. Therefore, in line with the IRS, GSA adjusted the POV mileage reimbursement rates starting July 1, 2022 through the remainder of calendar year (CY) 2022.

FTR Bulletin 22-06 establishes and announces the newly adjusted CY 2022 POV mileage reimbursement rates for official temporary duty and relocation travel. This notice is the only notification to agencies, in addition to the changes posted on GSA's website at https://gsa.gov/ftrbulletins and https://gsa.gov/mileage.

Krystal J. Brumfield,
Associate Administrator, Office of Government-wide Policy.

[FR Doc. 2022-14264 Filed 7-1-22; 8:45 am]

BILLING CODE 6820-14-P